POSTAL SERVICE BOARD OF GOVERNORS

Sunshine Act Meeting

TIMES AND DATES: 10:30 am, Monday, April 2, 2001; 8:30 am, Tuesday, April 3, 2001; and 10 am, Tuesday, April 3, 2001.

PLACE: Washington, DC, at U.S. Postal Service Headquarters, 475 L'Enfant Plaza, SW., in the Benjamin Franklin Room.

STATUS: April 2 (Closed); April 3—8:30 am (Open); 10 am (Closed).

MATTERS TO BE CONSIDERED:

Monday, April 2—10:30 am (Closed)

1. Financial Performance.

2. Recovery of Prior Years' Losses.

3. FedEx Alliance.

4. Strategic Planning/Postal Reform.

5. Compensation Issues.

6. Personnel Matters.

Tuesday, April 3—8:30 am (Open)

1. Minutes of the Previous Meetings, March 1, and March 5-7, 2001.

2. Remarks of the Postmaster General/Chief Executive Officer.

3. Fiscal Year 2000 Comprehensive Statement on Postal Operations.

4. Quarterly Report on Financial Results.

5. Borrowing Resolution.

6. Quarterly Report on Service Performance.

7. Remote Encoding Center Closings.

8. Tentative Agenda for the May 7-8, 2001, meeting in Washington, DC.

Tuesday, April 3—10 am (Closed)

1. Continuation of Monday's Closed Agenda.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-7054 Filed 3-16-01; 3:16 pm]

BILLING CODE 7710-12-M